DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Air Force ROTC Scholarship Nomination; AFOATS Form 36; OMB Number 0701-0103.

Type of Request: Extension.

Number of Respondents: 500.

Responses per Respondent: 1.

Annual Responses: 500.

Average Burden per Response: 42 minutes.

Annual Burden Hours: 350.

Needs and Uses: Respondents are college students who apply for an Air Force ROTC college scholarship. The AF Form 36 collects identification and academic performance data, academic aptitude scores, and the Professor of Aerospace Studies (PAS) evaluation of the applicant's performance and potential. The submitted data will be evaluated by Air Force ROTC In-College Scholarship selection boards to determine eligibility and to select individuals for the award of a college scholarship involving the expenditure of federal funds.

Affected Public: Individuals or Households.

Frequency: On Occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 2, 2001.
Patricia L. Toppings,
Alternate OSD Federal Register Liaison Officer, Department of Defense.

[FR Doc. 01-5663 Filed 3-7-01; 8:45 am]

BILLING CODE 5001-10-M